DEPARTMENT OF THE INTERIOR

Bureau of Land Management

[LLORL05000; L19900000.EX0000; 15XL1109HF; HAG 15-0214]

Notice of Intent To Prepare an Environmental Impact Statement for Expanding an Existing Perlite Mining Operation; Lake County, Oregon

AGENCY: Bureau of Land Management, Interior.

ACTION: Notice of intent.

SUMMARY: In compliance with the National Environmental Policy Act of 1969, as amended (NEPA), and the Federal Land Policy and Management Act of 1976 (FLPMA), as amended, the Bureau of Land Management (BLM) Lakeview Resource Area, Lakeview, Oregon intends to prepare an Environmental Impact Statement (EIS) and by this notice is announcing the beginning of the scoping process to solicit public comments and identify issues.

DATES: This notice initiates the public scoping process for the EIS. Comments on issues may be submitted in writing until February 22, 2016. The date(s) and location(s) of any scoping meetings will be announced at least 15 days in advance through local media, newspapers and the BLM Web site at: http://www.blm.gov/or/districts/lakeview/index.php. In order to be included in the Draft EIS, all comments must be received prior to the close of the 30-day scoping period or 15 days after the last public meeting, whichever is later. The BLM will provide additional opportunities for public participation upon publication of the Draft EIS.

ADDRESSES: You may submit comments related to the EIS for Expanding an Existing Perlite Mining Operation; Lake County, Oregon by any of the following methods:

• Mail: Todd Forbes, Field Manager, Lakeview Resource Area, Bureau of Land Management, 1301 South G Street, Lakeview, Oregon 97630.

• Email: pdamo@blm.gov.

• Fax: 541-947-6399; Attn: Phil D'Amo.

FOR FURTHER INFORMATION CONTACT: Phil D'Amo, Geologist, telephone: 541-947-6114; address: Lakeview Resource Area, Bureau of Land Management, 1301 South G Street, Lakeview, OR 97630; email: pdamo@blm.gov. Contact Mr. D'Amo to have your name added to the BLM's mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Cornerstone, Inc., has requested to modify its existing Plan of Operation by expanding its existing 70-acre quarry by up to an additional 340 acres on Tucker Hill, located approximately 35 miles northwest of the town of Lakeview, Oregon. The BLM will consider issues and concerns identified during the scoping process during the preparation of the EIS. The purpose of the public scoping process is to determine relevant issues that will influence the scope of the environmental analysis, including alternatives, and guide the process for developing the EIS. The preliminary issues identified include potential impacts to soils, vegetation, noxious weeds, traditional Native American uses, archaeological sites, wildlife habitat, visual quality, and socio-economics. The BLM will identify, analyze, and require mitigation, as appropriate, to address the reasonably foreseeable impacts to resources from the expansion of this mine. Mitigation may include avoidance, minimization, rectification, reduction or elimination over time, and compensatory mitigation, and may be considered at multiple scales, including the landscape-scale. Those individuals, organizations, tribal governments, and agencies with a known interest in the proposal have been sent a scoping letter requesting comments. At this time there is no formal scoping meeting planned, though one could be scheduled if there is sufficient interest.

The comment period on the draft EIS will last 45 days from the date the U.S. EPA Notice of Availability appears in the Federal Register. Because of recent court rulings, it is very important that interested parties participate during the scoping and draft EIS review processes, so that any substantive comments are provided at a time when the BLM can meaningfully consider them.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed EIS for Expanding an Existing Perlite Mining Operation; Lake County, Oregon that the BLM is evaluating, are invited to participate in the scoping process and, if eligible, may request or be requested by the BLM to participate in the development of the environmental analysis as a cooperating agency.

Before including your address, phone number, email address, or other personal identifying information in your comment letter, you should be aware that your entire comment, including your personal identifying information, may be made publicly available at any time. While you can ask to have your personal identifying information withheld from public review, we cannot guarantee that we will be able to do so.

Todd Forbes,
Field Manager, Lakeview Resource Area.

[FR Doc. 2016-01176 Filed 1-20-16; 8:45 am]

BILLING CODE 4310-33-P